DEPARTMENT OF HEALTH AND HUMAN SERVICES

Substance Abuse and Mental Health Services Administration

Statement of Organization, Functions, and Delegations of Authority

Part M of the Substance Abuse and Mental Health Services Administration (SAMHSA) Statement of Organization, Functions, and Delegations of Authority for the Department of Health and Human Services at 72, Number 62, page 15708, April 2, 2007 is amended to reflect a title correction. The title for the Center for Substance Abuse Treatment (MT), Division of State and Community Systems Development (MTE) is replaced with the following: Division of State and Community Assistance (MTE).

Delegations of Authority. All delegations and redelegations of authority to officers and employees of SAMHSA which were in effect immediately prior to the effective date of this reorganization shall continue to be in effect pending further redelegations, providing they are consistent with the reorganization.

These organizational changes are effective April 10, 2007.

Dated: April 10, 2007.
Terry L. Cline,
Administrator.

[FR Doc. E7-7240 Filed 4-16-07; 8:45 am]

BILLING CODE 4160-01-P